DEPARTMENT OF DEFENSE

Department of the Air Force

Privacy Act of 1974; System of Records

AGENCY: Department of the Air Force, DoD.

ACTION: Notice to delete and amend records systems.

SUMMARY: The Department of the Air Force proposes to delete three and amend two systems of records notices from its inventory of records systems subject to the Privacy Act of 1974 (5 U.S.C. 552a), as amended.

DATES: The actions will be effective on March 2, 2000, unless comments are received that would result in a contrary determination.

ADDRESSES: Send comments to the Air Force Access Programs Manager, Headquarters, Air Force Communications and Information Center/INC, 1250 Air Force Pentagon, Washington, DC 20330-1250.

FOR FURTHER INFORMATION CONTACT: Mrs. Anne Rolling at (703) 588-6187.

SUPPLEMENTARY INFORMATION: The Department of the Air Force's record system notices for records systems subject to the Privacy Act of 1974 (5 U.S.C. 552a), as amended, have been published in the Federal Register and are available from the address above.

The proposed amendments are not within the purview of subsection (r) of the Privacy Act (5 U.S.C. 552a), as amended, which would require the submission of a new or altered system report for each system. The specific changes to the records systems being amended are set forth below followed by the notices as amended, published in their entirety.

Dated: January 21, 2000.
L.M. Bynum,
Alternate OSD Federal Register Liaison Officer, Department of Defense.

F034 AF SVA D

System name:

Air Force Educational Assistance Loans

Reason: Records have been destroyed.

F036 AF DP E

System name:

Civilian Pay-Personnel-Manpower (PAPERMAN)

Reason: Records were incorporated into F036 AF PC Q.

F031 AF SP B

System name:

Air Force Policy Statement-Firearms Safety and Use of Force

Reason: Records have been destroyed.

F032 AF CE E

System name:

Visiting Officer Quarters-Transient Airman Quarters Reservation (June 11, 1997, 62 FR 31793).

Changes:

System identifier:

Delete entry and replace with “F034 AF AFSVA A”.

System name:

Delete entry and replace with “Lodging Reservations System.”

System location:

Delete entry and replace with “All Air Force installations with lodging facilities. Official mailing addresses are published as an appendix to the Air Force’s compilation of systems of records notices.”

* * * * *

Categories of records in the system:

Delete entry and replace with “Registration includes name, Social Security Number, credit card number, unit and/or home address, duty and/or home phone, purpose of visit, grade/rank, gender, point of contact name and number.”

* * * * *

Purpose(s):

Delete entry and replace with “To register occupants and charge for lodging.”

* * * * *

Safeguards:

Delete entry and replace with “Records are accessed by person(s) responsible for servicing the record system in performance of their official duties and by authorized personnel who are properly screened and cleared for need-to-know. Records are stored in locked rooms and cabinets. Those in computer storage devices are protected by computer system software.”

Retention and disposal:

Delete entry and replace with “Disposition pending (until NARA disposition is approved, treat as permanent)”.

* * * * *

Record source categories:

Delete entry and replace with “From individual or point of contact making reservation.”

* * * * *

F034 AF AFSVA A

System name:

Visiting Officer Quarters-Transient Airman Quarters Reservation.

System location:

All Air Force installations with Visiting Officer and/or Transient Airman Quarters. Official mailing addresses are published as an appendix to the Air Force's compilation of systems of records notices.

Categories of individuals covered by the system:

Personnel registering to obtain a room for the duration of visit.

Categories of records in the system:

Registration of transient personnel into quarters.

Authority for maintenance of the system:

10 U.S.C. 8013, Secretary of the Air Force and E.O. 9397 (SSN).

Purpose(s):

To register occupants of base transient quarters and charge for billeting.

Routine uses of records maintained in the system, including categories of users and the purposes of such uses:

In addition to those disclosures generally permitted under 5 U.S.C. 552a(b) of the Privacy Act, these records or information contained therein may specifically be disclosed outside the DoD as a routine use pursuant to 5 U.S.C. 552a(b)(3) as follows:

The Blanket Routine Uses' published at the beginning of the Air Force's compilation of systems of records notices apply to this system.

Policies and practices for storing, retrieving, accessing, retaining, and disposing of records in the system:

Storage:

Maintained in visible file binders/cabinets and on computer and computer output products.

Retrievability:

Retrieved by name or Social Security Number.

Safeguards:

Records are accessed by person(s) responsible for servicing the record system in performance of their official duties and by authorized personnel who are properly screened and cleared for need-to-know. Records are stored in locked rooms and cabinets. Those in computer storage devices are protected by computer system software.

Retention and disposal:

Disposition pending (until NARA disposition is approved, treat as permanent).

System manager(s) and address:

Lodging Program Manager, Lodging Department, Headquarters Air Force Services Agency (HQ AFSVA/SVOHL), 10100 Reunion Place, Suite 501, San Antonio, TX 78216-4138.

Notification procedure:

Individuals seeking to determine whether information about themselves is contained in this record system should address written inquiries to the lodging manager on base, or the Lodging Program Manager, Lodging Department (HQ AFSVA/SVOHL), 10100 Reunion Place, Suite 501, San Antonio, TX 78216-4138.

Full name and Social Security Number are required for identification.

Record access procedures:

Individuals seeking to access records about themselves contained in this record system should address written requests to the lodging manager on base, or the Lodging Program Manager, Lodging Department (HQ AFSVA/SVOHL), 10100 Reunion Place, Suite 501, San Antonio, TX 78216-4138.

Full name and Social Security Number are required for access.

Contesting record procedures:

The Air Force rules for accessing records, and for contesting contents and appealing initial agency determinations are published in Air Force Instruction 37-132; 32 CFR part 806b; or may be obtained from the system manager.

Record source categories:

From individual or point of contact making reservation.

Exemptions claimed for the system:

None.

F034 AF SVA A

System name:

Non-Appropriated Fund (NAF) Civilian Personnel Records (June 11, 1997, 62 FR 31793).

Changes:

System identifier:

Delete entry and replace with “F034 AF AFSVA B”.

System location:

Delete entry and replace with “Human resources offices. Official mailing addresses are published as an appendix to the Air Force” compilation of systems of records notices.

* * * * *

Categories of records in the system:

Delete entry and replace with “Life cycle personnel actions and documents related to employment, benefits, and pay of NAF employees.”

* * * * *

Retention and disposal:

Delete entry and replace with “Transfer folder to National Personnel Records Center (NPRC), St. Louis, MO, 30 days after latest separation.”

* * * * *

Record source categories:

Delete “financial institutions” and “police and investigating officers.”

* * * * *

F034 AF AFSVA B

System name:

Non-Appropriated Fund (NAF) Civilian Personnel Records.

System location:

Human resources offices. Official mailing addresses are published as an appendix to the Air Force's compilation of systems of records notices.

Categories of individuals covered by the system:

Air Force civilian employees paid from non-appropriated funds.

Categories of records in the system:

Life cycle personnel actions and documents related to employment, benefits, and pay of NAF employees.

Authority for maintenance of the system:

10 U.S.C. 8013, Secretary of the Air Force.

Purpose(s):

To document and record personnel action on individual employees and to determine pay and other benefit entitlements.

Routine uses of records maintained in the system, including categories of users and the purposes of such uses:

In addition to those disclosures generally permitted under 5 U.S.C. 552a(b) of the Privacy Act, these records or information contained therein may specifically be disclosed outside the DoD as a routine use pursuant to 5 U.S.C. 552a(b)(3) as follows:

The “Blanket Routine Uses” published at the beginning of the Air Force's compilation of systems of records notices apply to this system.

Policies and practices for storing, retrieving, accessing, retaining, and disposing of records in the system:

Storage:

Maintained in visible file binders/cabinets.

Retrievability:

Retrieved by name.

Safeguards:

Records are accessed by authorized personnel who are properly screened and cleared for need-to-know.

Retention and disposal:

Transfer folder to National Personnel Records Center (NPRC), St. Louis, MO, 30 days after latest separation.

System manager(s) and address:

Chief, Human Resources Division, Headquarters Air Force Services Agency (HQ AFSVA/SVXH), 10100 Reunion Place, Suite 502, San Antonio, TX 78216-4138.

Individuals seeking to determine whether information about themselves is contained in this system should address written inquiries to or visit the servicing human resources office. Identifying information is required to satisfy custodian of record. Official mailing addresses are published as an appendix to the Air Force's compilation of systems of records notices.

Record access procedures:

Individuals seeking access to information about themselves contained in this system should address written inquiries to or visit the servicing human resources office maintaining record. Official mailing addresses are published as an appendix to the Air Force's compilation of systems of records notices.

Contesting record procedures:

The Air Force rules for accessing records, and for contesting contents and appealing initial agency determinations are published in Air Force Instruction 37-132; 32 CFR part 806b; or may be obtained from the system manager.

Record source categories:

Information obtained from previous employers, financial institutions, educational institutions, police and investigating officers, personnel documents requesting and appointing and paying individual, and from documents related to designation of benefits and beneficiaries.

Exemptions claimed for the system:

None.

[FR Doc. 00-1863 Filed 1-31-00; 8:45 am]

BILLING CODE 5001-10-F